FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The Federal Trade Commission and the Assistant Attorney General for the Antitrust Division of the Department of Justice made the grants. Neither agency intends to take any action with respect to these proposed acquisitions during the applicable waiting period.

Early Terminations Granted
[01/01/2021 12:00:00 a.m., 01/31/2021 12:00:00 a.m.]
01/04/2021
20210673 | G | TransDigm Group Incorporated; AI Convoy (Cayman) Limited; TransDigm Group Incorporated.
20210692 | G | Marlin Equity V, L.P.; Luminate Capital Partners, LP; Marlin Equity V, L.P.
20210695 | G | Partners Group Access 77 PF LP; New Mountain Partners IV, L.P.; Partners Group Access 77 PF LP.
20210697 | G | Aurora Innovation, Inc; Uber Technologies, Inc; Aurora Innovation, Inc.
20210698 | G | Uber Technologies, Inc.; Aurora Innovation, Inc; Uber Technologies, Inc.
20210699 | G | Howard W. Lutnick; View, Inc.; Howard W. Lutnick.
20210701 | G | Humana Inc.; Rajendra K. Bansal; Humana Inc.
20210702 | G | Star Peak Energy Transition Corp.; Stem, Inc.; Star Peak Energy Transition Corp.
20210703 | G | Columna Datamars S.a.r.l; Datamars Investments S.a.r.l.; Columna Datamars S.a.r.l.
20210708 | G | Warburg Pincus Global Growth, L.P.; Tony Olson; Warburg Pincus Global Growth, L.P.
20210709 | G | L Catterton IX, L.P.; Truck Hero Holdings, Inc.; L Catterton IX, L.P.
20210713 | G | SK Holdings Co., Ltd.; Roivant Sciences Ltd.; SK Holdings Co., Ltd.
20210718 | G | AbbVie Inc.; Eiger BioPharmaceuticals, Inc.; AbbVie Inc.
01/11/2021
20210700 | G | Huntsman Corporation; Audax Private Equity Fund IV AIV, L.P.; Huntsman Corporation.
20210712 | G | Andrea Pignataro; Flexpoint Fund III, L.P; Andrea Pignataro.
20210719 | G | OCM RGCY PT, L.P. ; Drake Kennedy; OCM RGCY PT, L.P.
20210723 | G | Leidos Holdings, Inc; Sumeet Singh; Leidos Holdings, Inc.
20210724 | G | Roger S. Penske; Roger S. Penske; Roger S. Penske.
20210732 | G | Rhone Partners V L.P.; Gruppo Illy S.p.A; Rhone Partners V L.P.
20210733 | G | Fiserv, Inc.; Ondot Systems, Inc.; Fiserv, Inc.
20210734 | G | Primoris Services Corporation; Future Infrastructure Holdings, LLC; Primoris Services Corporation.
01/12/2021
20210728 | G | The Veritas Capital Fund VII, L.P.; Northrop Grumman Corporation; The Veritas Capital Fund VII, L.P.
20210729 | G | The Veritas Capital Fund VII, L.P.; The Veritas Capital Fund V, L.P.; The Veritas Capital Fund VII, L.P.
20210740 | G | Mercuria Energy Group Holding Ltd.; HC2 Holdings, Inc; Mercuria Energy Group Holding Ltd.
20210741 | G | CCP III AIV V, L.P. ; New Speedcast Parent; CCP III AIV V, L.P.
20210742 | G | Magna International Inc.; Dr. Geeta Gupta and Henrik Fisker; Magna International Inc.
20210746 | G | Oaktree Opportunities Fund XI, L.P.; S1 Blocker Buyer, Inc.; Oaktree Opportunities Fund XI, L.P.
20210747 | G | The Huron Fund V L.P.; Doug DeClusin; The Huron Fund V L.P.
20210748 | G | Partners Group Access 75 PF LP; New Harbor Wedgewood; Partners Group Access 75 PF LP.
01/13/2021
20210737 | G | Oshkosh Corporation; James F. Miller; Oshkosh Corporation.
20210749 | G | PTC Inc.; JMI Equity Fund VIII-A, L.P.; PTC Inc.
20210750 | G | Total SE; Dong Kwan Kim; Total SE.
20210752 | G | Alexander Karp; Palantir Technologies Inc.; Alexander Karp.
20210753 | G | Stephen Cohen; Palantir Technologies Inc.; Stephen Cohen.
20210756 | G | H.I.G. Middle Market LBO Fund III, L.P.; Incline Equity Partners IV, L.P.; H.I.G. Middle Market LBO Fund III, L.P.
20210757 | G | Paysafe Limited; Paysafe Group Holdings Limited; Paysafe Limited.
20210758 | G | William P. Foley, II; Paysafe Group Holdings Limited; William P. Foley, II.
20210759 | G | Cannae Holdings, Inc.; Paysafe Group Holdings Limited; Cannae Holdings, Inc.
20210762 | G | Cronos TopCo LP; New Mountain Partners V, L.P.; Cronos TopCo LP.
20210768 | G | Murphy USA Inc.; Dean C. Durling; Murphy USA Inc.
20210777 | G | Fortress Credit Opportunities Fund V (G) L.P.; Fidentia Fortuna Holdings, Ltd.; Fortress Credit Opportunities Fund V (G) L.P.
20210778 | G | Vesper Healthcare Acquisition Corp.; LCP Edge Holdco, LLC; Vesper Healthcare Acquisition Corp.
20210779 | G | United States Steel Corporation; Big River Steel Holdings LLC; United States Steel Corporation.
20210782 | G | Jonathan Oringer; Shutterstock, Inc.; Jonathan Oringer.
01/15/2021
20210173 | S | Albertsons Companies, Inc.; KB US Holdings, Inc.; Albertsons Companies, Inc.
20210380 | G | Allied Universal Topco LLC; Frank and Kathleen Argenbright; Allied Universal Topco LLC.
20210760 | G | ContourGlobal L.P.; Harbert Power Fund V, LLC; ContourGlobal L.P.
20210775 | G | Amphenol Corporation; MTS Systems Corporation ; Amphenol Corporation.
20210783 | G | KPS Special Situations Fund IV, LP; Ernest W. Giddens; KPS Special Situations Fund IV, LP.
20210787 | G | TCV X, L.P.; Newsela Inc.; TCV X, L.P.
20210790 | G | Kemper Corporation; American Access Group, LLC; Kemper Corporation.
20210791 | G | Silver Spike Acquisition Corp.; WM Holding Company, LLC; Silver Spike Acquisition Corp.
20210794 | G | Charlesbank Equity Fund IX, Limited Partnership; SPC Partners V, L.P.; Charlesbank Equity Fund IX, Limited Partnership.
20210795 | G | LPL Financial Holdings Inc.; Macquarie Group Limited; LPL Financial Holdings Inc.
20210796 | G | American Securities Partners VIII, L.P.; Beacon Roofing Supply, Inc.; American Securities Partners VIII, L.P.
20210797 | G | Koninklijke Philips N.V.; Francisco Partners Agility, L. P.; Koninklijke Philips N.V.
20210798 | G | The Resolute Fund V, L.P.; Madison Dearborn Capital Partners VII-A, L.P.; The Resolute Fund V, L.P.
20210799 | G | Stillfront Group AB; Super Free Games, Inc.; Stillfront Group AB.
20210800 | G | United Therapeutics Corporation; Y-mAbs Therapeutics, Inc.; United Therapeutics Corporation.
20210801 | G | Temasek Holdings (Private) Limited; Kazuhide Nakano; Temasek Holdings (Private) Limited.
20210803 | G | Macquarie Group Limited; Waddell & Reed Financial, Inc.; Macquarie Group Limited.
20210804 | G | TC Energy Corporation; TC PipeLines, LP; TC Energy Corporation.
20210805 | G | The Veritas Capital Fund VII, L.P.; HMS Holdings Corp.; The Veritas Capital Fund VII, L.P.
20210806 | G | Matthew Rabinowitz; Natera, Inc.; Matthew Rabinowitz.
20210808 | G | Cerner Corporation; Bain Capital Europe Fund V, SCSp; Cerner Corporation.
20210843 | G | George Archos; Majesta Minerals, Inc.; George Archos.

FOR FURTHER INFORMATION CONTACT: Theresa Kingsberry (202-326-3100), Program Support Specialist, Federal Trade Commission Premerger Notification Office, Bureau of Competition, Room CC-5301, Washington, DC 20024.

By direction of the Commission.
Joel Christie,
Acting Secretary.

[FR Doc. 2021-03751 Filed 2-23-21; 8:45 am]

BILLING CODE P